DEPARTMENT OF HEALTH AND HUMAN SERVICES

Office of the Secretary

Findings of Scientific Misconduct

AGENCY: Office of the Secretary, HHS.

ACTION: Notice.

SUMMARY: Notice is hereby given that the Office of Research Integrity (ORI) has made a final finding of scientific misconduct in the following case:

John L. Ho, M.D., Cornell University: Based on a report dated June 16, 1999, by Cornell University (Report), as well as information obtained by ORI during its oversight review, ORI found that Dr. John Ho, Associate Professor, Department of Medicine and Department of Microbiology at Cornell University Medical College, engaged in scientific misconduct by reporting falsified and fabricated research results in a National Heart, Lung, and Blood Institute (NHLBI), National Institutes of Health (NIH), grant application.

Specifically, ORI found that Dr. John Ho committed scientific misconduct in connection with the data contained in Figure 10 of the Application that purportedly demonstrated cytokine production heterogeneity. Dr. John Ho falsified the text describing Panel 2 of Figure 10 by representing that the interferon-g values reflected data from 25 donors when values from only four donors had been obtained. In addition, Dr. John Ho falsified the data entries for Panels 1 and 3 of Figure 10 by representing that approximately 19 and 25 donor samples, respectively, were studied when only three and six genuine values were obtained, the remaining symbols reflecting fabricated results.

Dr. John Ho has accepted the ORI finding and has entered into a Voluntary Exclusion Agreement with ORI in which he has voluntarily agreed:

(1) to comply with all terms and conditions of the plan for remedial training and scientific and administrative oversight imposed by Cornell University. Pursuant to the Cornell Plan, Dr. John Ho can return to work at Cornell University only after it receives written confirmation from Dr. David Ho that Dr. John Ho has successfully completed a program of remedial training of at least one (1) year's duration at the Aaron Diamond Foundation. Under the terms of the Cornell Plan, Dr. John Ho will be subject to a two (2) year plan of scientific and administrative oversight of his research upon his return to Cornell University from the Aaron Diamond Foundation.

(2) that, for a period of three (3) years beginning on December 28, 1999, any institution (including but not limited to Cornell University and the Aaron Diamond Foundation) that submits an application for U.S. Public Health Service (PHS) support for a research project on which Dr. John Ho's participation is proposed or which uses him in any capacity on PHS supported research, or that submits a report of PHS-funded research in which he is involved, must concurrently submit to PHS and ORI:

a. a plan for supervision of his duties during the particular PHS-related project at issue, which must be designed to ensure the scientific integrity of his research contribution; and

b. a certification that the data provided by Dr. John Ho are based on actual experiments or are otherwise legitimately derived, and that the data, procedures, and methodology are accurately reported in the application or research report.

(3) to exclude himself from serving in any advisory capacity to PHS, including but not limited to service on any PHS advisory committee, board, and/or peer review committee, or as a consultant for a three (3) year period beginning December 28, 1999.

Further, in the event that Dr. John Ho obtains a new employer at anytime during the three (3) year period beginning on December 28, 1999, Dr. John Ho has agreed to:

(1) notify ORI in writing no later than ten (10) business days after the commencement of his new employment of the name and address of his new employer;

(2) provide his new employer with a copy of the Agreement (including the Cornell Plan); and

(3) ensure that, for so long as the Cornell Plan is in effect, his new employer will agree to assume the scientific and research oversight responsibilities adopted by Cornell University pursuant to paragraphs 1, 2, and 3 of the Cornell Plan.

FOR FURTHER INFORMATION CONTACT: Acting Director, Division of Research Investigations, Office of Research Integrity, 5515 Security Lane, Suite 700, Rockville, MD 20852, (301) 443-5330.

Chris B. Pascal,
Acting Director, Office of Research Integrity.

[FR Doc. 00-1621 Filed 1-21-00; 8:45 am]

BILLING CODE 4160-17-P